Space Policy Directive-3 of June 18, 2018

National Space Traffic Management Policy

Memorandum for the Vice President[,] the Secretary of State[,] the Secretary of Defense[,] the Secretary of Commerce[,] the Secretary of Transportation[,] the Secretary of Homeland Security[,] the Director of National Intelligence[,] the Director of the Office of Management and Budget[,] the Assistant to the President for National Security Affairs[,] the Administrator of the National Aeronautics and Space Administration[,] the Director of the Office of Science and Technology Policy[,] the Deputy Assistant to the President for Homeland Security and Counterterrorism[, and] the Chairman of the Joint Chiefs of Staff

Section 1. Policy. For decades, the United States has effectively reaped the benefits of operating in space to enhance our national security, civil, and commercial sectors. Our society now depends on space technologies and space-based capabilities for communications, navigation, weather forecasting, and much more. Given the significance of space activities, the United States considers the continued unfettered access to and freedom to operate in space of vital interest to advance the security, economic prosperity, and scientific knowledge of the Nation.

Today, space is becoming increasingly congested and contested, and that trend presents challenges for the safety, stability, and sustainability of U.S. space operations. Already, the Department of Defense (DoD) tracks over 20,000 objects in space, and that number will increase dramatically as new, more capable sensors come online and are able to detect smaller objects. DoD publishes a catalog of space objects and makes notifications of potential conjunctions (that is, two or more objects coming together at the same or nearly the same point in time and space). As the number of space objects increases, however, this limited traffic management activity and architecture will become inadequate. At the same time, the contested nature of space is increasing the demand for DoD focus on protecting and defending U.S. space assets and interests.

The future space operating environment will also be shaped by a significant increase in the volume and diversity of commercial activity in space. Emerging commercial ventures such as satellite servicing, debris removal, in-space manufacturing, and tourism, as well as new technologies enabling small satellites and very large constellations of satellites, are increasingly outpacing efforts to develop and implement government policies and processes to address these new activities.

To maintain U.S. leadership in space, we must develop a new approach to space traffic management (STM) that addresses current and future operational risks. This new approach must set priorities for space situational awareness (SSA) and STM innovation in science and technology (S&T), incorporate national security considerations, encourage growth of the U.S. commercial space sector, establish an updated STM architecture, and promote space safety standards and best practices across the international community.

The United States recognizes that spaceflight safety is a global challenge and will continue to encourage safe and responsible behavior in space while emphasizing the need for international transparency and STM data sharing. Through this national policy for STM and other national space strategies and policies, the United States will enhance safety and ensure continued leadership, preeminence, and freedom of action in space.

Sec. 2. Definitions. For the purposes of this memorandum, the following definitions shall apply:

(a) Space Situational Awareness shall mean the knowledge and characterization of space objects and their operational environment to support safe, stable, and sustainable space activities.

(b) Space Traffic Management shall mean the planning, coordination, and on-orbit synchronization of activities to enhance the safety, stability, and sustainability of operations in the space environment.

(c) Orbital debris, or space debris, shall mean any human-made space object orbiting Earth that no longer serves any useful purpose.

Sec. 3. Principles. The United States recognizes, and encourages other nations to recognize, the following principles:

(a) Safety, stability, and operational sustainability are foundational to space activities, including commercial, civil, and national security activities. It is a shared interest and responsibility of all spacefaring nations to create the conditions for a safe, stable, and operationally sustainable space environment.

(b) Timely and actionable SSA data and STM services are essential to space activities. Consistent with national security constraints, basic U.S. Government-derived SSA data and basic STM services should be available free of direct user fees.

(c) Orbital debris presents a growing threat to space operations. Debris mitigation guidelines, standards, and policies should be revised periodically, enforced domestically, and adopted internationally to mitigate the operational effects of orbital debris.

(d) A STM framework consisting of best practices, technical guidelines, safety standards, behavioral norms, pre-launch risk assessments, and on-orbit collision avoidance services is essential to preserve the space operational environment.

Sec. 4. Goals. Consistent with the principles listed in section 3 of this memorandum, the United States should continue to lead the world in creating the conditions for a safe, stable, and operationally sustainable space environment. Toward this end, executive departments and agencies (agencies) shall pursue the following goals as required in section 6 of this memorandum:

(a) Advance SSA and STM Science and Technology. The United States should continue to engage in and enable S&T research and development to support the practical applications of SSA and STM. These activities include improving fundamental knowledge of the space environment, such as the characterization of small debris, advancing the S&T of critical SSA inputs such as observational data, algorithms, and models necessary to improve SSA capabilities, and developing new hardware and software to support data processing and observations.

(b) Mitigate the effect of orbital debris on space activities. The volume and location of orbital debris are growing threats to space activities. It is in the interest of all to minimize new debris and mitigate effects of existing debris. This fact, along with increasing numbers of active satellites, highlights the need to update existing orbital debris mitigation guidelines and practices to enable more efficient and effective compliance, and establish standards that can be adopted internationally. These trends also highlight the need to establish satellite safety design guidelines and best practices.

(c) Encourage and facilitate U.S. commercial leadership in S&T, SSA, and STM. Fostering continued growth and innovation in the U.S. commercial space sector, which includes S&T, SSA, and STM activities, is in the national interest of the United States. To achieve this goal, the U.S. Government should streamline processes and reduce regulatory burdens that could inhibit commercial sector growth and innovation, enabling the U.S. commercial sector to continue to lead the world in STM-related technologies, goods, data, and services on the international market.

(d) Provide U.S. Government-supported basic SSA data and basic STM services to the public. The United States should continue to make available basic SSA data and basic STM services (including conjunction and reentry notifications) free of direct user fees while supporting new opportunities for U.S. commercial and non-profit SSA data and STM services.

(e) Improve SSA data interoperability and enable greater SSA data sharing. SSA data must be timely and accurate. It is in the national interest of the United States to improve SSA data interoperability and enable greater SSA data sharing among all space operators, consistent with national security constraints. The United States should seek to lead the world in the development of improved SSA data standards and information sharing.

(f) Develop STM standards and best practices. As the leader in space, the United States supports the development of operational standards and best practices to promote safe and responsible behavior in space. A critical first step in carrying out that goal is to develop U.S.-led minimum safety standards and best practices to coordinate space traffic. U.S. regulatory agencies should, as appropriate, adopt these standards and best practices in domestic regulatory frameworks and use them to inform and help shape international consensus practices and standards.

(g) Prevent unintentional radio frequency (RF) interference. Growing orbital congestion is increasing the risk to U.S. space assets from unintentional RF interference. The United States should continue to improve policies, processes, and technologies for spectrum use (including allocations and licensing) to address these challenges and ensure appropriate spectrum use for current and future operations.

(h) Improve the U.S. domestic space object registry. Transparency and data sharing are essential to safe, stable, and sustainable space operations. Consistent with national security constraints, the United States should streamline the interagency process to ensure accurate and timely registration submissions to the United Nations (UN), in accordance with our international obligations under the Convention on Registration of Objects Launched into Outer Space.

(i) Develop policies and regulations for future U.S. orbital operations. Increasing congestion in key orbits and maneuver-based missions such as servicing, survey, and assembly will drive the need for policy development for national security, civil, and commercial sector space activities. Consistent with U.S. law and international obligations, the United States should regularly assess existing guidelines for non-government orbital activities, and maintain a timely and responsive regulatory environment for licensing these activities.

Sec. 5. Guidelines. In pursuit of the principles and goals of this policy, agencies should observe the following guidelines:

(a) Managing the Integrity of the Space Operating Environment.

(i) Improving SSA coverage and accuracy. Timely, accurate, and actionable data are essential for effective SSA and STM. The United States should seek to minimize deficiencies in SSA capability, particularly coverage in regions with limited sensor availability and sensitivity in detection of small debris, through SSA data sharing, the purchase of SSA data, or the provision of new sensors.

New U.S. sensors are expected to reveal a substantially greater volume of debris and improve our understanding of space object size distributions in various regions of space. However, very small debris may not be sufficiently tracked to enable or justify actionable collision avoidance decisions. As a result, close conjunctions and even collisions with unknown objects are possible, and satellite operators often lack sufficient insight to assess their level of risk when making maneuvering decisions. The United States should develop better tracking capabilities, and new means to catalog such debris, and establish a quality threshold for actionable collision avoidance warning to minimize false alarms.

Through both Government and commercial sector S&T investment, the United States should advance concepts and capabilities to improve SSA in support of debris mitigation and collision avoidance decisions.

(ii) Establishing an Open Architecture SSA Data Repository. Accurate and timely tracking of objects orbiting Earth is essential to preserving the safety of space activities for all. Consistent with section 2274 of title 10, United States Code, a basic level of SSA data in the form of the publicly releasable portion of the DoD catalog is and should continue to be provided free of direct user fees. As additional sources of space tracking data become available, the United States has the opportunity to incorporate civil, commercial, international, and other available data to allow users to enhance and refine this service. To facilitate greater data sharing with satellite operators and enable the commercial development of enhanced space safety services, the United States must develop the standards and protocols for creation of an open architecture data repository. The essential features of this repository would include:

• Data integrity measures to ensure data accuracy and availability;

• Data standards to ensure sufficient quality from diverse sources;

• Measures to safeguard proprietary or sensitive data, including national security information;

• The inclusion of satellite owner-operator ephemerides to inform orbital location and planned maneuvers; and

• Standardized formats to enable development of applications to leverage the data.

To facilitate this enhanced data sharing, and in recognition of the need for DoD to focus on maintaining access to and freedom of action in space, a civil agency should, consistent with applicable law, be responsible for the publicly releasable portion of the DoD catalog and for administering an open architecture data repository. The Department of Commerce should be that civil agency.

(iii) Mitigating Orbital Debris. It is in the interest of all space operators to minimize the creation of new orbital debris. Rapid international expansion of space operations and greater diversity of missions have rendered the current U.S. Government Orbital Debris Mitigation Standard Practices (ODMSP) inadequate to control the growth of orbital debris. These standard practices should be updated to address current and future space operating environments. The United States should develop a new protocol of standard practices to set broader expectations of safe space operations in the 21st century. This protocol should begin with updated ODMSP, but also incorporate sections to address operating practices for large constellations, rendezvous and proximity operations, small satellites, and other classes of space operations. These overarching practices will provide an avenue to promote efficient and effective space safety practices with U.S. industry and internationally.

The United States should pursue active debris removal as a necessary long-term approach to ensure the safety of flight operations in key orbital regimes. This effort should not detract from continuing to advance international protocols for debris mitigation associated with current programs.

(b) Operating in a Congested Space Environment.

(i) Minimum Safety Standards and Best Practices. The creation of minimum standards for safe operation and debris mitigation derived in part from the U.S. Government ODMSP, but incorporating other standards and best practices, will best ensure the safe operation of U.S. space activities. These safety guidelines should consider maneuverability, tracking, reliability, and disposal.

The United States should eventually incorporate appropriate standards and best practices into Federal law and regulation through appropriate rulemaking or licensing actions. These guidelines should encompass protocols for all stages of satellite operation from design through end-of-life.

Satellite and constellation owners should participate in a pre-launch certification process that should, at a minimum, consider the following factors:

• Coordination of orbit utilization to prevent conjunctions;

• Constellation owner-operators' management of self-conjunctions;

• Owner-operator notification of planned maneuvers and sharing of satellite orbital location data;

• On-orbit tracking aids, including beacons or sensing enhancements, if such systems are needed;

• Encryption of satellite command and control links and data protection measures for ground site operations;

• Appropriate minimum reliability based on type of mission and phase of operations;

• Effect on the national security or foreign policy interests of the United States, or international obligations; and

• Self-disposal upon the conclusion of operational lifetime, or owner-operator provision for disposal using active debris removal methods.

(ii) On-Orbit Collision Avoidance Support Service. Timely warning of potential collisions is essential to preserving the safety of space activities for all. Basic collision avoidance information services are and should continue to be provided free of direct user fees. The imminent activation of more sensitive tracking sensors is expected to reveal a significantly greater population of the existing orbital debris background as well as provide an improved ability to track currently catalogued objects. Current and future satellites, including large constellations of satellites, will operate in a debris environment much denser than presently tracked. Preventing on-orbit collisions in this environment requires an information service that shares catalog data, predicts close approaches, and provides actionable warnings to satellite operators. The service should provide data to allow operators to assess proposed maneuvers to reduce risk. To provide on-orbit collision avoidance, the United States should:

• Provide services based on a continuously updated catalog of satellite tracking data;

• Utilize automated processes for collision avoidance;

• Provide actionable and timely conjunction assessments; and

• Provide data to operators to enable assessment of maneuver plans.

To ensure safe coordination of space traffic in this future operating environment, and in recognition of the need for DoD to focus on maintaining access to and freedom of action in space, a civil agency should be the focal point for this collision avoidance support service. The Department of Commerce should be that civil agency.

(c) Strategies for Space Traffic Management in a Global Context.

(i) Protocols to Prevent Orbital Conjunctions. As increased satellite operations make lower Earth orbits more congested, the United States should develop a set of standard techniques for mitigating the collision risk of increasingly congested orbits, particularly for large constellations. Appropriate methods, which may include licensing assigned volumes for constellation operation and establishing processes for satellites passing through the volumes, are needed. The United States should explore strategies that will lead to the establishment of common global best practices, including:

• A common process addressing the volume of space used by a large constellation, particularly in close proximity to an existing constellation;

• A common process by which individual spacecraft may transit volumes used by existing satellites or constellations; and

• A set of best practices for the owner-operators of utilized volumes to minimize the long-term effects of constellation operations on the space environment (including the proper disposal of satellites, reliability standards, and effective collision avoidance).

(ii) Radio Frequency Spectrum and Interference Protection. Space traffic and RF spectrum use have traditionally been independently managed processes. Increased congestion in key orbital regimes creates a need for improved and increasingly dynamic methods to coordinate activities in both the physical and spectral domains, and may introduce new interdependencies. U.S. Government efforts in STM should address the following spectrum management considerations:

• Where appropriate, verify consistency between policy and existing national and international regulations and goals regarding global access to, and operation in, the RF spectrum for space services;

• Investigate the advantages of addressing spectrum in conjunction with the development of STM systems, standards, and best practices;

• Promote flexible spectrum use and investigate emerging technologies for potential use by space systems; and

• Ensure spectrum-dependent STM components, such as inter-satellite safety communications and active debris removal systems, can successfully access the required spectrum necessary to their missions.

(iii) Global Engagement. In its role as a major spacefaring nation, the United States should continue to develop and promote a range of norms of behavior, best practices, and standards for safe operations in space to minimize the space debris environment and promote data sharing and coordination of space activities. It is essential that other spacefaring nations also adopt best practices for the common good of all spacefaring states. The United States should encourage the adoption of new norms of behavior and best practices for space operations by the international community through bilateral and multilateral discussions with other spacefaring nations, and through U.S. participation in various organizations such as the Inter-Agency Space Debris Coordination Committee, International Standards Organization, Consultative Committee for Space Data Systems, and UN Committee on the Peaceful Uses of Outer Space.

Sec. 6. Roles and Responsibilities. In furtherance of the goals described in section 4 and the guidelines described in section 5 of this memorandum, agencies shall carry out the following roles and responsibilities:

(a) Advance SSA and STM S&T. Members of the National Space Council, or their delegees, shall coordinate, prioritize, and advocate for S&T, SSA, and STM, as appropriate, as it relates to their respective missions. They should seek opportunities to engage with the commercial sector and academia in pursuit of this goal.

(b) Mitigate the Effect of Orbital Debris on Space Activities.

(i) The Administrator of the National Aeronautics and Space Administration (NASA Administrator), in coordination with the Secretaries of State, Defense, Commerce, and Transportation, and the Director of National Intelligence, and in consultation with the Chairman of the Federal Communications Commission (FCC), shall lead efforts to update the U.S. Orbital Debris Mitigation Standard Practices and establish new guidelines for satellite design and operation, as appropriate and consistent with applicable law.

(ii) The Secretaries of Commerce and Transportation, in consultation with the Chairman of the FCC, will assess the suitability of incorporating these updated standards and best practices into their respective licensing processes, as appropriate and consistent with applicable law.

(c) Encourage and Facilitate U.S. Commercial Leadership in S&T, SSA, and STM. The Secretary of Commerce, in coordination with the Secretaries of Defense and Transportation, and the NASA Administrator, shall lead efforts to encourage and facilitate continued U.S. commercial leadership in SSA, STM, and related S&T.

(d) Provide U.S. Government-Derived Basic SSA Data and Basic STM Services to the Public.

(i) The Secretaries of Defense and Commerce, in coordination with the Secretaries of State and Transportation, the NASA Administrator, and the Director of National Intelligence, should cooperatively develop a plan for providing basic SSA data and basic STM services either directly or through a partnership with industry or academia, consistent with the guidelines of sections 5(a)(ii) and 5(b)(ii) of this memorandum.

(ii) The Secretary of Defense shall maintain the authoritative catalog of space objects.

(iii) The Secretaries of Defense and Commerce shall assess whether statutory and regulatory changes are necessary to effect the plan developed under subsection (d)(i) of this section, and shall pursue such changes, along with any other needed changes, as appropriate.

(e) Improve SSA Data Interoperability and Enable Greater SSA Data Sharing.

(i) The Secretary of Commerce, in coordination with the Secretaries of State, Defense, and Transportation, the NASA Administrator, and the Director of National Intelligence, shall develop standards and protocols for creation of an open architecture data repository to improve SSA data interoperability and enable greater SSA data sharing.

(ii) The Secretary of Commerce shall develop options, either in-house or through partnerships with industry or academia, assessing both the technical and economic feasibility of establishing such a repository.

(iii) The Secretary of Defense shall ensure that release of data regarding national security activities to any person or entity with access to the repository is consistent with national security interests.

(f) Develop Space Traffic Standards and Best Practices. The Secretaries of Defense, Commerce, and Transportation, in coordination with the Secretary of State, the NASA Administrator, and the Director of National Intelligence, and in consultation with the Chairman of the FCC, shall develop space traffic standards and best practices, including technical guidelines, minimum safety standards, behavioral norms, and orbital conjunction prevention protocols related to pre-launch risk assessment and on-orbit collision avoidance support services.

(g) Prevent Unintentional Radio Frequency Interference. The Secretaries of Commerce and Transportation, in coordination with the Secretaries of State and Defense, the NASA Administrator, and the Director of National Intelligence, and in consultation with the Chairman of the FCC, shall coordinate to mitigate the risk of harmful interference and promptly address any harmful interference that may occur.

(h) Improve the U.S. Domestic Space Object Registry. The Secretary of State, in coordination with the Secretaries of Defense, Commerce, and Transportation, the NASA Administrator, and the Director of National Intelligence, and in consultation with the Chairman of the FCC, shall lead U.S. Government efforts on international engagement related to international transparency and space object registry on SSA and STM issues.

(i) Develop Policies and Regulations for Future U.S. Orbital Operations. The Secretaries of Defense, Commerce, and Transportation, in coordination with the Secretary of State, the NASA Administrator, and the Director of National Intelligence, shall regularly evaluate emerging trends in space missions to recommend revisions, as appropriate and necessary, to existing SSA and STM policies and regulations.

Sec. 7. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Commerce is authorized and directed to publish this memorandum in the Federal Register.

THE WHITE HOUSE,

Washington, June 18, 2018

[FR Doc. 2018-13521

Filed 6-20-18; 11:15 am]

Billing code 3510-07-P